DEPARTMENT OF HEALTH AND HUMAN SERVICES

Administration for Children and Families

Submission for OMB Review; Information Collection Activity; Health Assessment Form, Public Health Investigation Form: Non-TB Illness, and Public Health Investigation Form: Active TB (OMB #0970-0509)

AGENCY: Office of Refugee Resettlement, Administration for Children and Families, HHS.

ACTION: Request for public comment.

SUMMARY: The Office of Refugee Resettlement (ORR), Administration for Children and Families (ACF), U.S. Department of Health and Human Services (HHS), is requesting to continue the data collection approved by the Office of Management and Budget (OMB) under expedited review.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION: Description: ACF was granted a 180-day approval by OMB to collect information about instances of COVID-19. A request for review under normal procedures will now be submitted to continue collection of this information as part of the information collection under OMB #0970-0509.

Respondents: Healthcare providers (Pediatricians) and ORR Grantee Staff.

Annual Burden Estimates:

Estimated Opportunity Costs for Respondents:

Pediatricians, General
Information collection title | Annual number of respondents | Annual number of responses per respondent | Average burden hours per response | Total burden hours | Annual burden hours
Health Assessment Form | 195 | 542 | 0.15 | 47,562 | 15,854

Estimated Annual Burden Total: 15,854.

ORR Grantee Staff
Information collection title | Annual number of respondents | Annual number of responses per respondent | Average burden hours per response | Total burden hours | Annual burden hours
Public Health Investigation Form: Non-TB Illness | 195 | 10 | 0.08 | 468 | 156
Public Health Investigation Form: Active TB | 195 | 3 | 0.08 | 141 | 47

Estimated Annual Burden Total: 203.

Estimated Recordkeeping Costs:

ORR Grantee Staff
Information collection title | Annual number of respondents | Annual number of responses per respondent | Average burden hours per response | Total burden hours | Annual burden hours
Health Assessment Form | 195 | 542 | 0.21 | 66,585 | 22,195
Public Health Investigation Form: Non-TB Illness | 195 | 10 | 0.08 | 468 | 156
Public Health Investigation Form: Active TB | 195 | 3 | 0.08 | 141 | 47

Estimated Annual Burden Total: 22,398.

Authority: 6 U.S.C. 279: Exhibit 1, part A.2 of the Flores Settlement Agreement (Jenny Lisette Flores, et al., v. Janet Reno, Attorney General of the United States, et al., Case No. CV 85-4544-RJK [C.D. Cal. 1996]).

John M. Sweet, Jr.,
ACF/OPRE Certifying Officer.

[FR Doc. 2020-21266 Filed 9-25-20; 8:45 am]

BILLING CODE 4184-45-P